GENERAL SERVICES ADMINISTRATION

48 CFR Part 501

[GSAR Change 102; GSAR Case 2016-G509; Docket No. GSA-GSAR-2019-0009; Sequence No. 1]

RIN 3090-AJ83

General Services Administration Acquisition Regulation (GSAR); Updates to the Issuance of GSA's Acquisition Policy

AGENCY: Office of Acquisition Policy, General Services Administration (GSA).

ACTION: Direct final rule.

SUMMARY: The General Services Administration (GSA) is issuing this direct final rule to amend the General Services Administration Acquisition Regulation (GSAR) to remove internal agency guidance regarding deviations from the Federal Acquisition Regulation (FAR) and General Services Administration Acquisition Manual (GSAM) and move it to GSA's non-regulatory acquisition policy.

DATES: This final rule is effective on September 16, 2019, without further notice unless adverse comments are received by August 15, 2019.

ADDRESSES: Submit comments in response to GSAR Case 2016-G509 by any of the following methods:

• Regulations.gov: http://www.regulations.gov. Submit comments via the Federal eRulemaking portal by searching for “GSAR Case 2016-G509”. Select the link “Comment Now” that corresponds with “GSAR Case 2016-G509.” Follow the instructions provided on the screen. Please include your name, company name (if any), and “GSAR Case 2016-G509” on your attached document.

• Mail: General Services Administration, Regulatory Secretariat Division (MVCB), ATTN: Lois Mandell, 1800 F Street NW, 2nd floor, Washington, DC 20405.

Instructions: Please submit comments only and cite “GSAR Case 2016-G509” in all correspondence related to this case. All comments received will be posted without change to http://www.regulations.gov, including any personal and/or business confidential information provided. To confirm receipt of your comment(s), please check https://www.regulations.gov, approximately two to three days after submission to verify posting (except allow 30 days for posting of comments submitted by mail).

FOR FURTHER INFORMATION CONTACT: Mr. Thomas O'Linn, Procurement Analyst, at 202-445-0390, for clarification of content. For information pertaining to status or publication schedules, contact the Regulatory Secretariat Division at 202-501-4755. Please cite GSAR Case 2016-G509—Updates to the Issuance of GSA's Acquisition Policy.

SUPPLEMENTARY INFORMATION:

I. Background

As part of GSA's regulatory reform efforts, GSA has been performing a comprehensive review of the regulatory requirements in the GSAR. As a part of these efforts, GSA identified internal agency guidance on roles and responsibilities on issuing GSA acquisition policies and approval requirements that need to be moved to GSA's non-regulatory acquisition policy located with the GSAM. Additionally, GSA identified other administrative aspects of GSAR part 501 that needed updating as well. As a result, GSA included as part of the Fall edition of the Unified Agenda of Federal Regulatory and Deregulatory Actions in the Federal Register at 83 FR 57803 on November 16, 2018 its intention to publish a final rule notice in the Federal Register.

II. Discussion and Analysis

Federal Acquisition Regulation (FAR) 1.301(a)(2) provides an agency head the ability to issue or authorize the issuance of internal agency guidance at any organizational level (e.g., designations and delegations of authority, assignments of responsibilities, work-flow procedures, and internal reporting requirements). Furthermore, FAR 1.301(b) states that publication for public comment is not required for issuances under FAR 1.301(a)(2).

GSA's implementation and supplementation of the FAR is issued in the GSAM, which includes the GSAR. The GSAR contains policies and procedures that have a significant effect beyond the internal operating procedures of GSA or a significant cost or administrative impact on contractors or offerors (see FAR 1.301(b)). Relevant procedures, guidance, instruction, and information that do not meet this criteria are issued through the non-regulatory portion of the GSAM and other GSA publications.

As a part of GSA's comprehensive review of its regulatory requirements in the GSAR, internal agency guidance was identified within GSAR subpart 501 that could be moved to GSA's non-regulatory acquisition policy of the GSAM. This internal guidance does not have a significant effect beyond the internal operating procedures of GSA or a significant cost or administrative impact on contractors or offerors (see FAR 1.301(b)). As a result, this action represents an administrative clean-up to remove internal agency guidance from the GSAR and move it to GSA's non-regulatory acquisition policy. The benefit of moving this from the GSAR to the GSAM is that it is easier and more efficient to update internal operating procedures as necessary. With the increasing pace of change in technology and business process, this change makes it easier to keep the most-up-to-date procedures in place.

The amendments to GSAR part 501 are minor and reflect needed changes to bring the language up-to-date.

III. Executive Order 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of Executive Order 12866, Regulatory Planning and Review, dated September 30, 1993. This rule is not a major rule under 5 U.S.C. 804.

IV. Executive Order 13771

This final rule is not subject to E.O. 13771, because this rule is not a significant regulatory action under E.O. 12866.

V. Regulatory Flexibility Act

GSA does not expect this final rule to have a significant economic impact on a substantial number of small entities within the meaning of the Regulatory Flexibility Act, 5 U.S.C. 601, et seq., because this is a noncontroversial action that only impacts the agency's internal operating procedures, and GSA anticipates no significant adverse comments.

Therefore, an Initial Regulatory Flexibility Analysis has not been performed. GSA invites comments from small business concerns and other interested parties on the expected impact of this rule on small entities.

GSA will also consider comments from small entities concerning the existing regulations in subparts affected by the rule in accordance with 5 U.S.C. 610. Interested parties must submit such comments separately and should cite 5 U.S.C 610 (GSAR Case 2016-G509), in correspondence.

VI. Paperwork Reduction Act

This rule does not contain any information collection requirements that require the approval of the Office of Management and Budget under the Paperwork Reduction Act (44 U.S.C. chapter 35).

List of Subjects in 48 CFR Part 501.

Government procurement.

Jeffrey A. Koses,
Senior Procurement Executive, Office of Acquisition Policy, Office of Governmentwide Policy, General Services Administration.

Therefore, GSA amends 48 CFR part 501 as set forth below:

PART 501—GENERAL SERVICES ADMINISTRATION ACQUISITION REGULATION SYSTEM

1. The authority citation for 48 CFR part 501 continues to read as follows:

Authority: 40 U.S.C. 121(c).

501.104 [Amended]

2. Amend section 501.104 by removing paragraph (d).

3. Amend section 501.105-1 by revising paragraph (a) and removing paragraphs (c) and (d).

The revision reads as follows:

501.105-1 Publication and code arrangement.

* * * * *

(a) The Federal Register at https://www.federalregister.gov/.

* * * * *

4. Revise section 501.105-3 to read as follows:

501.105-3 Copies.

Copies of the GSAR may be purchased from the Government Printing Office at https://www.gpo.gov/. The GSAR is also available electronically at https://www.ecfr.gov/ or at https://www.acquisition.gov under the agency supplements tab.

Subpart 501.4 [Removed]

5. Remove subpart 501.4, consisting of 501.402 through 501.404-71.

[FR Doc. 2019-15056 Filed 7-15-19; 8:45 am]

BILLING CODE 6820-61-P